DEPARTMENT OF THE INTERIOR

Bureau of Land Management

[ES-960-1430-FQ; MIES-002777]

Public Land Order No. 7751; Revocation of the Withdrawal Established by Executive Order Dated January 19, 1861; Michigan

AGENCY: Bureau of Land Management, Interior.

ACTION: Public land order.

SUMMARY: This order revokes in its entirety the withdrawal established by an Executive Order as to 569.45 acres of public land withdrawn from all forms of appropriation under the public land laws and reserved for use by the United States Coast Guard for lighthouse purposes. The reservation is no longer needed. This order opens the land to the operation of the public land laws, subject to valid existing rights and other segregations of record.

DATES: Effective Date: September 28, 2010.

FOR FURTHER INFORMATION CONTACT: Nate Felton, Bureau of Land Management—Eastern States Office, 7450 Boston Boulevard, Springfield, Virginia 22153, 703-440-1511.

SUPPLEMENTARY INFORMATION: A lighthouse was never constructed on the land, which is located on Manitou Island. The United States Coast Guard has determined that the reservation is no longer needed and has requested the revocation.

Order

By virtue of the authority vested in the Secretary of the Interior by Section 204 of the Federal Land Policy and Management Act of 1976, 43 U.S.C. 1714, it is ordered as follows:

1. The withdrawal established by Executive Order dated January 19, 1861, which reserved public land on Manitou Island for lighthouse purposes, is hereby revoked in its entirety:

Michigan Meridian

T. 58 N., R. 26 W.,

Fractional secs. 17, 20, and 21.

The area described contains 569.45 acres in Keweenaw County.

2. At 9 a.m. on October 28, 2010, subject to valid existing rights, the provisions of existing withdrawals, other segregations of record, and the requirements of applicable law, the public land described in Paragraph 1 shall be opened to the operation of the public land laws generally. All valid applications received at or prior to 9 a.m. on October 28, 2010, shall be considered as simultaneously filed at that time. Those received thereafter shall be considered in the order of filing.

Dated: September 13, 2010.
Wilma A. Lewis,
Assistant Secretary—Land and Minerals Management.

[FR Doc. 2010-24286 Filed 9-27-10; 8:45 am]

BILLING CODE 4310-GJ-P